GENERAL SERVICES ADMINISTRATION

[Notice-MA-2017-06; Docket No. 2017-0002, Sequence No. 17]

Federal Travel Regulation (FTR); Reimbursement for Use of Transportation Network Companies or Innovative Mobility Technology Companies While on Official Travel

AGENCY: Office of Government-wide Policy (OGP), General Services Administration (GSA).

ACTION: Notice of a Bulletin.

SUMMARY: The purpose of this notice is to inform federal agencies that FTR Bulletin 17-04, pertaining to the authorization of and reimbursement for use of Transportation Network Companies (TNCs) or innovative mobility technology companies by Federal travelers on temporary duty, is now available online at www.gsa.gov/ftrbulletin.

DATES: Effective: August 22, 2017.

FOR FURTHER INFORMATION CONTACT: Mr. Cy Greenidge, Office of Government-wide Policy, Office of Asset and Transportation Management, at 202-219-2349, or by email at travelpolicy@gsa.gov.

Please cite Notice of FTR Bulletin 17-04.

Dated: August 14, 2017.
Allison Fahrenkopf Brigati,
Associate Administrator, Office of Government-wide Policy, General Services Administration.

[FR Doc. 2017-17680 Filed 8-21-17; 8:45 am]

BILLING CODE 6820-14-P